DEPARTMENT OF COMMERCE

International Trade Administration

[A-401-806]

Stainless Steel Wire Rod from Sweden: Notice of Rescission of Antidumping Duty Administrative Review

AGENCY: Import Administration, International Trade Administration, Department of Commerce.

EFFECTIVE DATE: February 7, 2005.

FOR FURTHER INFORMATION CONTACT: Sophie Castro or P. Lee Smith, Import Administration, International Trade Administration, U.S. Department of Commerce, 14th Street and Constitution Avenue, N.W., Washington, D.C. 20230; telephone: (202) 482-0588 or (202) 482-1655, respectively.

SUPPLEMENTARY INFORMATION:

Background

On September 1, 2004, the Department of Commerce (Department) published in the Federal Register (69 FR 53407) a notice of “Opportunity To Request Administrative Review” of the antidumping duty order on stainless steel wire rod from Sweden for the period September 1, 2003, through August 31, 2004. On September 30, 2004, the petitioner¹ requested an administrative review of the antidumping duty order for the following company: Fagersta Stainless AB (Fagersta). On October 22, 2004, the Department published a notice of initiation of an administrative review of the antidumping duty order on stainless steel wire rod from Sweden with respect to this company. See Initiation of Antidumping and Countervailing Duty Administrative Reviews, 69 FR 62022. On January 12, 2005, the petitioner timely withdrew its request for review with respect to Fagersta.

¹ The petitioner is Carpenter Technology Corporation.

Rescission of Review

Section 351.213(d)(1) of the Department's regulations stipulates that the Secretary will rescind an administrative review, in whole or in part, if a party that requested a review withdraws the request within 90 days of the date of publication of notice of initiation of the requested review. In this case, the petitioner withdrew its request for review of Fagersta within the 90-day period. Therefore, because the petitioner was the only party to request the administrative review of this company, we are rescinding this review of the antidumping duty order on stainless steel wire rod from Sweden.

This notice is published in accordance with section 751 of the Tariff Act of 1930, as amended, and 19 CFR 351.213(d)(4).

Dated: February 1, 2005.
Barbara E. Tillman,
Acting Assistant Secretary for Import Administration.

[FR Doc. E5-479 Filed 2-4-05; 8:45 am]

BILLING CODE 3510-DS-S